DEPARTMENT OF TRANSPORTATION

Surface Transportation Board

[Docket No. FD 35688]

Transco Railway Products Inc.—Acquisition and Operation Exemption—D&W Railroad LLC

Transco Railway Products Inc. (Transco), a noncarrier, has filed a verified notice of exemption under 49 CFR 1150.31 to acquire from D&W Railroad LLC (D&W) and to operate approximately 23 miles of tracks in Oelwein, Iowa. The tracks consist of: (1) A series of approximately 24 parallel, stub-ended track segments (identified as the “Stub-ended Tracks”); (2) track segments that connect to the D&W main line, which segments include three parallel tracks northeast of the Stub-ended Tracks (identified as Track Nos. 0, 1, and 2), and tracks identified as the “Depress Track,” the “Back Lead,” and the “Freight Track” (the Freight Track leads to Transco's facility in Oelwein); and (3) track segments identified as the “Round House Track” and the “Diesel Track” (each of which connects to the Freight Track), and the “Crossover Track” (which connects the Freight Track to the Back Lead track).¹ The tracks are located west of the main line, north of Fourth Street SW., and south of 50th Street.

¹ Concurrently with its verified notice of exemption, Transco filed a motion to dismiss the notice, alleging that it does not need Board authority to acquire and operate over the subject tracks because the tracks are excepted yard track, pursuant to 49 U.S.C. 10906. Transco's motion to dismiss will be addressed in a subsequent Board decision.

The transaction may not be consummated prior to December 5, 2012 (30 days after the notice of exemption was filed).

Transco certifies that its projected annual revenues would not exceed that which would qualify it as a Class III rail carrier, and further states that its projected annual revenue would not exceed $5 million.

If the verified notice contains false or misleading information, the exemption is void ab initio. Petitions to revoke the exemption under 49 U.S.C. 10502(d) may be filed at any time. The filing of a petition to revoke will not automatically stay the effectiveness of the exemption. Petitions to stay must be filed no later than November 28, 2012 (at least seven days before the exemption becomes effective).

An original and 10 copies of all pleadings, referring to Docket No. FD 35688, must be filed with the Surface Transportation Board, 395 E Street SW., Washington, DC 20423-0001. In addition, a copy of each pleading must be served on Rose-Michele Nardi, 1300 19th Street NW., Fifth Floor, Washington, DC 20036-1609.

Board decisions and notices are available on our Web site at www.stb.dot.gov.

Decided: November 15, 2012.
By the Board, Rachel D. Campbell, Director, Office of Proceedings.
Jeffrey Herzig,
Clearance Clerk.

[FR Doc. 2012-28289 Filed 11-20-12; 8:45 am]

BILLING CODE 4915-01-P